DEPARTMENT OF HEALTH AND HUMAN SERVICES

Administration for Children and Families

[Program Announcement No. CFDA 93.598]

ORR Announcement for Services To Victims of a Severe Form of Trafficking

AGENCY: Office of Refugee Resettlement (ORR), ACF, HHS.

ACTION: Request for Applications for projects to increase awareness about human trafficking and to support services for individuals determined to be victims of a severe form of trafficking. This notice supersedes the notice published in the Federal Register on February 8, 2002 (67 FR 6048).

SUMMARY: This ORR announcement invites submission of grant applications for funding, on a competitive basis, in three categories: Category 1—Local/Community Outreach and/or Services for Victims of a Severe Form of Trafficking; Category 2—Technical Assistance and Training; and Category 3—Information Discovery for National Outreach/Educational Campaign.

DATES: July 31, 2002 is the closing date for all categories. Please note that all applications must be received (as opposed to postmarked) in ACF by this date or they will be considered late.

Announcement Availability: The program announcement and the application materials are available from Jay Womack and Neil Kromash, Office of Refugee Resettlement (ORR), 370 L'Enfant Promenade SW, Washington, DC 20447 and from the ORR website at: www.acf.hhs.gov/programs/orr

FOR FURTHER INFORMATION CONTACT: For all categories, contact Jay Womack, (202) 401-5525, jwomack@acf.hhs.gov or Neil Kromash, (202) 401-5702, nkromash@acf.hhs.gov.

SUPPLEMENTARY INFORMATION: This program announcement consists of four parts:

Part I: Background, legislative authority, funding availability, CFDA Number, eligible applicants, project and budget periods, and for each of the three categories—program purpose and objectives, allowable and non-allowable activities, and review criteria.

Part II: The Review Process—intergovernmental review, initial ACF screening, and competitive review.

Part III: The Application—application forms, application submission and deadlines, certifications, general instructions for preparing a full project description, and length of application.

Part IV: Post-award—applicable regulations, treatment of program income, and reporting requirements.

Paperwork Reduction Act of 1995 (Pub. L. 104-13)

Public reporting burden for this collection of information is estimated to average 16 hours per response, including the time for reviewing instructions, gathering and maintaining the data needed, and reviewing the collection of information. The following information collections are included in the program announcement for categories 1-3: OMB Approval No. 0970-0139, ACF UNIFORM PROJECT DESCRIPTION (UPD) attached as Appendix A, which expires 12/30/03 and OMB Approval No. 0970-0036, ORR Quarterly Performance Report (QPR) and Schedule C which expire 7/31/02. An agency may not conduct or sponsor, and a person is not required to respond to, a collection of information unless it displays a currently valid OMB control number.

Part I: Background

Since 1994, ORR has provided assistance for social services to meet the needs of newly arriving refugees through a standing announcement. In May 2001, ORR modified that announcement to include services to victims of a severe form of trafficking. However, in February 2002, ORR further modified Category 3 of the existing standing announcement by removing services to victims of a severe form of trafficking in order to proceed with a new and separate announcement specifically aimed at promoting awareness about human trafficking and addressing the service needs of victims of a severe form of trafficking. That notice of modification was published in the Federal Register on February 8, 2002 (67 FR 6048).

This new Announcement establishes a new set of three categories designed to increase awareness about trafficking in persons and provide assistance to victims of a severe form of trafficking.

Legislative Authority

These grants are authorized by three provisions of law: section 107(b)(1)(B) of the Trafficking Victims Protection Act of 2000 (TVPA), section 412(c)(1)(A) of the Immigration and Nationality Act (INA) (8 U.S.C. 1522(c)(1)(A)), as amended, and section 106(b) of the TVPA.

Section 107(b)(1)(B) of the TVPA, Pub. L. 106-386, Division A, 114 Stat. 1464 (2000), provides that “[federal agencies] shall expand benefits and services to victims of severe forms of trafficking in persons in the United States, without regard to the immigration status of such victims.” Section 107(b) of the TVPA also provides that individuals who are determined to be victims of a severe form of trafficking will be issued a certification letter (for adults) or eligibility letter (for minors under the age of 18) from the U.S. Department of Health and Human Services (HHS). In conducting a benefits eligibility determination for a victim of a severe form of trafficking, benefit-granting agencies should accept the HHS certification letter or HHS eligibility letter for minors in lieu of documentation from the Immigration and Naturalization Service and as proof of a status that confers eligibility for benefits.

Section 412(c)(1)(A) of the INA authorizes the Director “to make grants to, and enter into contracts with, public or private nonprofit agencies for projects specifically designed—(i) to assist refugees in obtaining the skills which are necessary for economic self-sufficiency, including projects for job training, employment services, day care, professional refresher training, and other re-certification services; (ii) to provide training in English where necessary (regardless of whether the refugees are employed or receiving cash or other assistance); and (iii) to provide where specific needs have been shown and recognized by the Director, health (including mental health) services, social services, educational and other services.”

Section 106(b) of the TVPA provides: “The President, acting through the Secretary of Labor, the Secretary of Health and Human Services, the Attorney General, and the Secretary of State, shall establish and carry out programs to increase public awareness, particularly among potential victims of trafficking, of the dangers of trafficking and the protections that are available for victims of trafficking.

Funding Availability

In FY 2002, ORR expects to award an estimated $3.9 million in funds that were appropriated to carry out the Trafficking Victims Protection Act of 2000. ORR expects to make approximately 8-10 grants under Category 1—Local/Community Outreach and/or Services for Victims of a Severe Form of Trafficking ranging from $50,000 to $250,000 for a total of up to $2,500,000; renewable on a yearly basis for up to 3 years, subject to availability of funds; one grant under Category 2—Technical Assistance and Training ranging from $300,000 to $500,000 for a total of up to $500,000 per year, renewable on a yearly basis for up to 3 years, subject to availability of funds; and one grant under Category 3—Information Discovery for National Outreach/Educational Campaign for a total of up to $900,000 per year, renewable on a yearly basis for up to 3 years, subject to availability of funds.

The Director reserves the right to award less or more than the funds described in this announcement. In the absence of worthy applications the Director may decide not to make an award if deemed in the best interest of the government. Funding availability for future years is at the Director's discretion.

CFDA Number—93.598

Eligible Applicants

In Categories 1 and 2 public and private nonprofit organizations, including faith-based organizations, are eligible to apply for these grants (see § 412(c) of the INA). ORR expects that applicants will coordinate with other local organizations in considering projects and proposing services. In Category 3, any entity is eligible to apply (see section 106(b) of the TVPA), although HHS funds may not be paid as profit to any recipients even if the recipient is a commercial organization (45 CFR 74.81).

Any private nonprofit organization submitting an application must submit proof of its nonprofit status at the time of submission. A nonprofit agency can accomplish this by providing a copy of the applicant's listing in the Internal Revenue Service's (IRS) most recent list of tax-exempt organizations described in section 501(c)(3) of the IRS code or by providing a copy of the currently valid IRS tax exemption certificate.

An applicant may submit more than one application under this announcement, but must apply separately for each category.

Project and Budget Periods

This announcement is inviting applications in Categories 1, 2, and 3 for project periods of up to three years. Awards, on a competitive basis, will be for a one-year budget period although project periods may be up to three years. Applications for continuation grants funded under these awards, beyond the one-year budget period but within the three-year project period, will be entertained in subsequent years on a noncompetitive basis, subject to availability of funds, satisfactory progress of the grantee and a determination that continued funding would be in the best interest of the Government.

Category 1—Local/Community Outreach and/or Services for Victims of a Severe Form of Trafficking

Purpose and Objectives

The purpose of Category 1, Local/Community Outreach and/or Services for Victims of a Severe Form of Trafficking, is multifaceted. It combines the need to increase local/community awareness about the burgeoning problem of human trafficking with the need to provide resources that will address the needs of individuals determined to be victims of a severe form of trafficking. Category 1 applications may choose to concentrate exclusively on one of these two areas, or focus more comprehensively on a combination of activities that incorporates both.

Local/Community Outreach

The emphasis on Category 1 is to provide state and local law enforcement, public and private service providers, non-governmental organizations, immigrant and refugee communities, and individual community members with opportunities to learn about the Trafficking Victims Protection Act of 2000 (TVPA). The TVPA has presented an unprecedented opportunity to address the previously hidden problem of human trafficking. However, knowledge of the TVPA is limited among service professionals, law enforcement agencies, and the general public. Knowledge of benefits available to victims is similarly limited, especially among groups that do not normally access benefits or have connections with benefit-providing agencies and organizations.

Educational opportunities need to be extended to these groups to allow them to learn about the existence of human trafficking within the United States and to recognize trafficking, particularly in their local communities. Integral in these outreach activities should be familiarity with the legal definition of “severe forms of trafficking in persons” as described in the TVPA. Subsequently, a clear understanding should be established of the criteria necessary to qualify as a victim of a severe form of trafficking for benefits and services purposes.

Once trafficking victims have been identified, organizations must be empowered to provide victims with additional information and resources to access services available to them. Law enforcement agencies that have contact with immigrant or refugee populations must also be educated to look below the surface of people's circumstances in such areas as prostitution and immigrant labor. Service providers need to learn about the varied backgrounds from where the victims come and most importantly the unique issues that trafficking victims will present following their emancipation.

Organizations must establish that within their geographic locality/area there is a reasonable expectation that victims of a severe form of trafficking may be identified. Successful applicants will consider which services need to be enhanced or increased in light of increased community awareness of trafficking.

ORR is interested in providing resources for organizations to cover the costs of reaching out to community-based organizations so that victims are identified where they have the best chance for receiving assistance. In turn, communities where outreach and educational opportunities are being extended may experience an increase in the numbers of victims being identified and requesting services.

Services to Victims of a Severe Form of Trafficking

Through Category 1, Services to Victims of a Severe Form of Trafficking, ORR seeks to provide resources that will address the needs of individuals determined to be victims of a severe form of trafficking. Victims must be the recipients of a certification or eligibility letter from HHS in order to gain access to this assistance. We believe that enhanced case management, education, culturally and linguistically appropriate linkages and coordination with other service providers contribute to the overall well-being of trafficking victims. Victims may also require initial assistance accessing refugee and/or mainstream services for which they are eligible. The services funded through Category 1 should enhance the likelihood of victims of a severe form of trafficking receiving needed support as they work with the criminal justice system to assist in the investigation and prosecution of trafficking crimes. In all instances, activities must be designed to supplement, rather than supplant, the existing array of refugee services available in the community.

An applicant should provide anecdotal evidence that there have been victims of a severe form of trafficking within their community and/or a reasonable assumption that there may be additional unidentified victims in that community.

This grant program is intended to support services that address the special conditions of victims of a severe form of trafficking. ORR's expectation is that victims of trafficking will most likely, after a brief period of time, access mainstream services. Therefore, grantees should view these resources as a temporary solution.

According to post award requirements, grantees are expected to file periodic program reports. In the last two Program Performance Reports, grantees will discuss the transition of services indicating whether the services are now supported by the State, other public or private resources, or are no longer needed. These reports must provide supporting information on the impact of the services provided to the target population.

Allowable Activities

Local/Community Outreach

Allowable activities for local/community outreach include hosting community forums (including coordination and facilitation of outreach events) to raise general awareness about the problem of trafficking in their local community. In addition, applicants should emphasize the development of advertising and marketing anti-trafficking materials that reflect the broad scope of the various forms of trafficking (including debt bondage, peonage, forced labor and forced prostitution) and that are linguistically and culturally accessible, appropriate, and sensitive.

Applications focusing on Local/Community Outreach should indicate approximate timelines for development, dissemination, and review of actions presented to measure the effectiveness of the communication.

Services to Victims of a Severe Form of Trafficking

Allowable activities for Services to Victims of a Severe Form of Trafficking are restricted solely to individuals who are the recipients of a certification (for adults) or eligibility (for minors) letter from HHS. Some of the services needed for victims of a severe form of trafficking might include:

• Special medical care that is not otherwise available to the individual;

• Assistance with temporary transportation needs;

• Temporary housing;

• Temporary housing for young adults with limited experience living in families;

• Independent living skills and cultural orientation;

• Access to appropriate educational programs;

• Legal assistance/referrals and administrative costs (excluding T-visa application fees and/or attorney fees).

• Case management, to include information and referral to needed services in the community, either funded refugee services or mainstream services as appropriate;

• Special mental health services, such as trauma counseling, and

• Other services needed to bridge the time between the certification or eligibility date indicated directly on the Department's letter, and the receipt of public benefits and support services.

Applicants focusing on Services to Victims of a Severe Form of Trafficking should indicate how they will ensure that services are appropriate and accessible both linguistically and culturally.

Non-Allowable Activities

Funds will not be awarded to applicants for the purpose of engaging in activities of a distinctly political nature, activities designed exclusively to promote the preservation of a specific cultural heritage, or activities with an international objective (i.e., activities related to events in the refugees' country of origin).

Review Criteria

1. Objectives and Need—Local/Community Outreach—The applicant demonstrates a clear understanding of the population to be served. The conditions in proposed communities are clearly described, including the reasonable expectation of identifying trafficking victims within the community. The need for additional information leading to enhanced acknowledgment of trafficking is documented. The applicant provides anecdotal evidence that there are enough people and/or organizations that would benefit from this type of outreach/educational opportunity. Services for Victims of a Severe Form of Trafficking—The applicant demonstrates a clear understanding of the population to be served. The number of projected victims of trafficking to be served is reasonable in light of the organization's capacity. The application proposes to address a program of services for victims of trafficking. (25 points)

2. Results or Benefits Expected—The applicant clearly describes the results and benefits to be achieved. The application clearly describes how the specific target population will benefit from proposed services, e.g., enhanced case management, special medical care, referrals and follow-up with culturally and linguistically appropriate mainstream providers. Results or benefits are described also in terms of the opportunities provided for victims, benefit-providing agencies, and law enforcement. The application describes how the impact of the funds will be measured on key indicators associated with the purpose of the project. Proposed outcomes are measurable and achievable within the grant project period, and the proposed monitoring and information collection is adequately planned. (25 points)

3. Approach—The strategy and plan, including a description of each proposed community and an assessment of appropriateness of activities, are likely to achieve proposed results. The proposed activities and timeframes are reasonable and feasible. The plan describes in detail how the proposed activities will be accomplished as well as the potential for the project to generate additional interest in outreach to victim populations and coordination with other services. The application includes a clear and comprehensive description of the communities proposed and how they will be impacted by this project. Assurance is provided that proposed services will be delivered in a manner that is linguistically and culturally appropriate to the target population. The applicant has described the planning consultation efforts undertaken. Where coalition partners are proposed, the applicant describes each partner agency's respective role and financial responsibilities and describes how the coalition will enhance the accomplishment of the project goals. Evidence of commitment of coalition partners in implementing the activities is demonstrated, i.e., by Memoranda of Understanding (MOUs) among participants. Assurance is provided that proposed services will be delivered in a manner that is linguistically and culturally appropriate to the target population. (25 points)

4. Organizational Profiles—The administrative and management features of the project, including a plan for fiscal and programmatic management of each activity and planning activities, are described in detail with proposed start-up times, ongoing timelines, major milestones or benchmarks, a component/project organization chart, management of affiliates, and a staffing chart of affiliate network. The qualifications of project staff, both applicant and affiliate agencies, as well as any volunteers, are documented. The applicant has provided a copy of its most recent audit report. (10 points)

5. Budget and Budget Justification—The budget and narrative justification are reasonable, clearly presented, and cost-effective in relation to the proposed activities and anticipated results. The applicant clearly indicates how awarded funds will complement other community outreach efforts and/or social services to achieve the objectives. Planning for continuation of services beyond the project period is realistic. (15 points)

Category 2—Technical Assistance and Training

Purpose and Objectives

This program is to provide technical and issue-specific assistance and training to organized groups, organizations, and individuals regarding the background and impact of the TVPA, with specific emphasis on the provision of benefits as it relates to the needs of trafficking victims. The program is also aimed at providing and disseminating research and resources for benefit-issuing agencies, law enforcement agencies, and others relating to issues of trafficking in persons.

We believe that strong technical assistance for the provision of benefits is needed by organizations and individuals that have limited experience working with victims of a severe form of trafficking. Victims of a severe form of trafficking have distinct and acute needs for assistance that may differ from the needs of other refugees. Programs targeted at domestic victims of crime are not necessarily prepared to address the specific needs of trafficking victims (e.g., culturally appropriate and sensitive trauma counseling, language translation, legal and immigration process referrals). Likewise, many refugee benefit-issuing organizations do not have experience in identifying the needs of a trafficking victim as distinct from the needs of other refugee populations.

The target audience requires guidance on: The types of benefits and services available to victims; barriers to victims receiving benefits; successful methodologies to ensure that victims access benefits and services available to them; and how to provide case assessments (needs assessments) of victims, including how to conduct clinical assessments.

Organizations and individuals also need to learn more about the TVPA including the legislative background, programmatic impact, technical details of the Act, and the processes that enable victims to receive certain types of benefits. Additional background regarding the history of trafficking prior to the TVPA, including precipitating factors to the enactment of the law, will also provide a better understanding of the potential impact of the TVPA for both victims and service providers.

To ensure that service organizations, law enforcement agencies and others have all the necessary information that enables them to provide assistance to victims, the development of research and background materials is critical. As resources and information continue to be developed, these resources need to be disseminated to ensure that the growing base of knowledge can be used to create effective and lasting programmatic advances for victim assistance.

We expect that applicants to this program category will have strong knowledge of and demonstrate significant experience working with victims of a severe form of trafficking in areas including direct services, legal assistance referrals, and case management.

Allowable Activities

ORR will accept applications under this announcement for projects that propose services that enhance the knowledge base and service ability of other potential grantees, current grantees, law enforcement agencies, benefit-issuing agencies and other concerned populations who are working with or may be working with victims of a severe form of trafficking.

Specific activities may include:

• Educational outreach. Serving as a consulting partner to other ORR trafficking grantees. Providing technical guidance to other agencies regarding benefits and services available to victims of a severe form of trafficking and the travel associated with this activity.

• Meetings and conferences. Hosting educational events to disseminate information on victim services and methodologies. Participation in national or international meetings and conferences that may contribute to capacity development and knowledge base on trafficking, and otherwise enhance collaborative activities.

(Note—all international travel must be approved in advance by ORR project officer.)

• Clearing house of information. Development of a library of resources to be made available to other organizations and individuals. Development of an internet web site which could include chat, resources, links, or community bulletin boards. Providing and facilitating information exchange among various contributors.

• Consultation/mentoring services. Providing specific issue guidance/advice to other agencies working on anti-trafficking initiatives.

• Curriculum development and dissemination. Development of written protocols for handling trafficking cases and directing victims to available benefits.

Acceptable applications will include the development of curricula that can be disseminated to other organizations. Curricula should follow the above objectives and address the provision of benefits, methodologies for successful implementation, as well as follow-up resource development. Included in the development process should be allowances for training other organizations on the curricula and follow-up as needed.

Non-Allowable Activities

Funds will not be awarded to applicants for the purpose of engaging in activities of a distinctly political nature, activities designed exclusively to promote the preservation of a specific cultural heritage, or activities with an international objective (i.e., activities related to events in the trafficking victims' country of origin).

Review Criteria

1. Objectives and Need—The applicant demonstrates a clear understanding of the population to be served through significant/extensive experience working with victims of a severe form of trafficking. The applicant demonstrates clear training and advocacy experience through quantitatively demonstrated experience with trafficking victims of various cultural, linguistic, and experiential background. The applicant has experience with case assessment and creating links to law enforcement agencies, benefit issuing agencies, non-profit organizations and others. The application proposes to address a program of services for victims of trafficking. (25 points)

2. Results or Benefits Expected—The application clearly describes how the specific target population will benefit from proposed services, e.g., enhanced case management ability, increased capacity to create referrals, and follow-up with culturally and linguistically appropriate mainstream providers. Any curricula developed can be used as key resource to be shared throughout the country and provided in conjunction with at least three (3) training sessions within the first year of the grant. Proposed quantitative outcomes are tangible and achievable within the grant project period and the proposed monitoring and information collection are adequately planned. (25 points)

3. Approach—The strategy and plan are likely to achieve the proposed results; the proposed activities and timeframes are reasonable and feasible. The plan describes in detail how the proposed activities will be accomplished as well as the coordination with any other services. Assurance is provided that proposed services will be delivered in a manner that is linguistically and culturally appropriate to the target population. Where coalition partners are proposed, the applicant describes each partner agency's respective role and financial responsibilities; and describes how the coalition will enhance the accomplishment of the project goals. The applicant has described the planning consultation efforts undertaken. Evidence of commitment of coalition partners in implementing the activities is demonstrated, i.e., by Memoranda of Understanding (MOUs) among participants. (25 points)

4. Organizational Profiles—Individual organization staff including volunteers are well qualified. The administrative and management features of the project, including a plan for fiscal and programmatic management of each activity, are described in detail with proposed start-up times, ongoing timelines, major milestones or benchmarks, a component/project organization chart, and a staffing chart. The applicant has provided a copy of its most recent audit report. (15 points)

5. Budget and Budget Justification—The budget and narrative justification are reasonable, clearly presented, and cost-effective in relation to the proposed activities and anticipated results. Planning for any costs for publication, printing, dissemination, and similar costs are reasonable and comprehensive. (10 points)

Category 3—Information Discovery for National Outreach/Educational Campaign

Purpose and Objectives

The purposes of this project are: (A) To determine the extent of community awareness regarding the problem of human trafficking among both the general United States population and the organizations that serve victims; and (B) to better understand the successful approaches that might encourage victims to come forward for identification and assistance. The resultant information will be used as the basis for an array of culturally appropriate Public Service Announcements (PSAs) designed to increase the number of victims identified and encourage the development and implementation of additional programs intended to protect and care for victims of severe forms of trafficking.

There is a critical need for information discovery regarding public awareness of trafficking, of provisions of the Trafficking Victims Protection Act of 2000 (TVPA), and identification of factors that encourage victims to come forward to access protection and services. Given the relatively recent passage of this legislation and the TVPA's impact upon the welfare of trafficking victims, ORR believes it is important for this information to be gathered and analyzed without delay in order to identify and assist additional victims.

In comparison to other immigrant populations (i.e., refugees or asylees) trafficking victims are a population about whom relatively little is known. Due to the nascent nature of the TVPA, there is a relatively small number of victims who have been made eligible to receive certain federal or state funded or administered benefits. While there is a growing amount of anecdotal evidence about the needs of trafficking victims and their access to benefits, this evidence may not accurately reflect the range of victim needs. For example, trafficking victims may require immediate, secure, and confidential contact with law enforcement agencies while other immigrant populations may not. We need more information to fully estimate the level of public awareness of trafficking and the factors that may encourage victims to come forward to utilize available benefits and services.

It is also important to describe how victims interact with community organizations and service providers. Many of these organizations currently play a vital role in identifying and providing support to trafficking victims and may be called upon for additional support. For example, organizations that are the front line service providers at hospitals, clinics, or domestic violence shelters may not realize that many of the people they have assisted are actually trafficking victims. Similarly, community organizations (e.g., mutual assistance associations) and religious institutions can play an important role in the lives of trafficking victims. This project will seek to improve our understanding of those roles and how they are affected by the TVPA.

Allowable Activities

Grantee Responsibilities

1. The Grantee should propose a project work plan that describes conditions within the topic areas underlined below. The project should explore the knowledge and relationships among trafficking victims (including child and elderly victims), service providers, and community organizations within each topic. Questions listed next to each topic suggest the type of information in which ORR has particular interest.

• Trafficking Awareness. What level of awareness does the general community exhibit? How are communities and individual community members currently being educated about the existence of trafficking? How are trafficking victims being educated about the crime of human trafficking? What information has been disseminated? What have community members identified as areas in need of increased knowledge or awareness? What are the successful approaches to encouraging victims to come forward?

• Victim Identification. Who are the first to come into contact with victims? How are victims identified as victims (e.g., victim determination) and who does this? How much information do these organizations/groups have regarding the TVPA? What connection, if any, do they have with other providers?

• Victim Assistance. To what extent is the community aware of assistance that may be made available to victims? How are services being directed to victims? What actions have been taken or are planned to expand these services? What is the demand for community-based assistance (including food, medical, and mental health services)? To what sources do victims turn in order to meet their needs?

• Employment. What type of employment do victims pursue following their emancipation? How long do they stay in their jobs? What level of wages do victims receive and how much do they receive in total earnings? What fringe benefits do victims receive from their employers? What are the child care arrangements for employed trafficking victims?

• Victims' Income. What are victims' sources of income following their emancipation and how much do they receive from each source? What is the ratio of assistance to total income? What types of assistance and services are received and from whom (e.g., public or private service providers, friends, family)?

• Role of Community Organizations. What role(s) do community organizations have in identifying trafficking victims? What type (e.g., housing, security, medical, clothing, etc.) and how much assistance do trafficking victims receive from those community organizations, including religious institutions? How have these organizations helped victims access public benefits to which victims may be eligible under the TVPA?

Special consideration will be given to applications that demonstrate a concerted effort to examine organizations and individuals who are reaching out to victims of severe forms of trafficking and pursuing actions that encourage victims to come forward. Applicants should focus on at least two communities with high densities of trafficking victims.

The applicant's proposal should also seek to answer the relevant questions above from the standpoint of victims, service providers, and community organizations. The methodology for accomplishing this approach is at the discretion of the grantee; however, many organizations that initially come into contact with victims may be excellent sources of information. These could include, but are not limited to, hospitals, clinics, police and other law enforcement agencies, immigrant-serving community-based organizations, social service providers, child care facilities, and public health authorities. Information from these organizations should describe the relationship between trafficking victims and the community, the types of support community organizations provide to immigrant families, and, to the extent possible, any outreach efforts being undertaken.

2. Category three of this announcement is the only category that will be a cooperative agreement. In the spirit of the cooperative agreement, the Grantee should provide monthly updates to inform the Federal Project Officer of research developments and the status of project activities.

3. With input from the Federal Project Officer, the Grantee should select an Advisory Panel to provide guidance in project development. The Advisory Panel may participate in subsequent meetings between the Federal Project Officer and the Grantee. The Grantee may be responsible for the Advisory Panel's travel and related expenses, if any.

4. Prior to completion of the work plan (analysis plan), the Grantee should meet with relevant Federal personnel in Washington, DC to discuss the preliminary methodology and design of the research project including what research questions will be answered and what methodology the Grantee will employ to answer the questions. Federal personnel will have the opportunity to provide input and suggestions in these areas. If applicable, the Federal Project Officer should be invited to participate in other meetings in which the Grantee is involved during discussions regarding critical aspects of the project with other funding sources.

5. After consultation, the Grantee should submit a final work plan that is based on any updates to the work plan submitted in the original application. The plan should:

(a) Include a complete list of research questions the project will answer and the variables that will be used to answer each question. These variables could include (but are not limited to) immigration status and demographic information for all victims, including income level and source; type of victimization; benefit eligibility and history, employment history; and health status.

(b) Identify and describe the methodology used to gather information on trafficking with respect to these variables and the analysis to be performed.

(c) Identify how the proposed variables and data sets will be used by the Grantee to answer the research questions described in the work plan.

(d) Identify important questions/issues for which data currently are not available, and strategies for dealing with this lack of data when it pertains to the research questions in the work plan.

(e) Identify how the confidentiality will be protected of any research subjects involved in the project.

(f) Describe the results that will be produced and construct examples of tables illustrating how these results will be presented.

(g) Identify steps to coordinate with any federal or contractor staff assigned responsibility for designing and implementing the national outreach/educational campaign.

6. Once initial analyses have been conducted, the Grantee should meet with relevant federal personnel in Washington, DC to discuss preliminary findings and the format for the final report. In the spirit of a cooperative agreement, the Grantee should work with federal personnel to determine the need for additional collection or analysis of information.

7. After completing their analysis, the Grantee will prepare a final report describing the procedures used to gather information and conduct the analysis, barriers encountered in completing the project and the results of their analysis. A draft of this report should be delivered to the Federal Project Officer before the completion of the project. The Federal Project Officer will return comments on the draft report to the Grantee and a final report that reflects the comments of the Federal Project Officer should be delivered to the Grants Officer before the completion of the project. The report should be provided to the Grants Officer both in hard copy and on 3.5″ floppy disk in a format that is agreed upon by both parties.

8. Following the completion of the final report, the Grantee should conduct a briefing in Washington, DC for federal personnel regarding the results of the analyses. The Grantee should be responsible for assembling and copying any necessary briefing materials. The briefing should take place before the completion of the project.

9. The Grantee will make data and analysis completed as a result of this project available to the research community and the government.

ORR Responsibilities

ORR will:

1. Provide input into the final work plan, including methodology, analysis, and dissemination plan.

2. Provide consultation and technical assistance in planning and operating program activities.

3. Work with the Grantee to resolve any methodological or analytical issues.

4. Assist in the transfer of information to appropriate federal, state and local entities, including any PSA developer(s).

5. Review Grantee activities and provide feedback to ensure that objectives and award conditions are being met. ORR retains the right to withhold future year funding if technical performance requirements are not met.

Non-Allowable Activities

Funds will not be awarded to applicants for the purpose of engaging in activities of a distinctly political nature, activities designed exclusively to promote the preservation of a specific cultural heritage, or activities with an international objective (i.e., activities related to events in the refugees' country of origin).

Review Criteria

1. Objectives and Need for Assistance—The objectives and anticipated results of the proposed project will advance policy knowledge and development. The proposed research questions address the required topics listed in this announcement and answers to these questions will effectively describe the status of trafficking victims, their communities and the organizations that serve them. The applicant demonstrates a clear understanding of the populations to be researched through significant/extensive knowledge of the issues of severe forms of trafficking in persons and the effect upon victims. The applicant demonstrates clear research experience through quantitatively demonstrated experience with trafficking victims of various cultural, linguistic, and experiential backgrounds. The applicant has experience with creating links to law enforcement agencies, benefit issuing agencies, non-profit organizations and others. The application proposes to develop information to be used to design and execute a national outreach and educational program with the goal of increasing public awareness about human trafficking. (25 points)

2. Results or Benefits Expected—Information and data are developed and provided that will allow PSA creator(s) to choose and target specific geographic media markets on the problem of human trafficking. (25 points)

3. Approach—Information gathering supplements (rather than duplicates) studies already underway by the federal government, including research on current and/or effective public awareness strategies for victims of trafficking. Methodology is appropriate, sound, and cost-effective, including the research design, statistical techniques, analytical strategies, selection of existing data sets, and other procedures. Sites selected for the study have a concentration of previously identified trafficking victims, diverse demographic victim populations (i.e. country of origin, types of identified trafficking crimes—sexual exploitation, involuntary domestic servitude, forced labor, etc.), and diverse levels of local service provision.

The proposed methodology accurately describes victims' status as suggested by the topics listed in this announcement, as well as the interaction between victims, their communities and service providers. To the extent that projects seek to examine the impact of the TVPA, the applicant's proposed methodology reliably attributes impacts. (20 points)

4. Organizational Profiles—Project personnel are well qualified to conduct the proposed research, as evidenced by their professional training and experience. The capacity of the organization to provide the infrastructure and support necessary for the project is suitable. The applicant has experience coordinating and sequencing tasks with other organizations. Special consideration will be given to applicants that collaborate with organizations that frequently work with immigrant populations. The applicant has pledged and shown ability to work in collaboration with other organizations in search of similar goals. The applicant has demonstrated capacity to work with a range of government agencies. The administrative and management features of the project, including a plan for fiscal and programmatic management of each activity, are described in detail with proposed start-up times, ongoing timelines, major milestones or benchmarks, a component/project organization chart, and a staffing chart. The applicant has provided a copy of its most recent audit report. (20 points)

5. Budget and Budget Justification—The budget and narrative justification are reasonable, clearly presented, and cost-effective in relation to the proposed activities and anticipated results. Planning for any costs for information research, dissemination, and similar costs (e.g., travel) are reasonable and comprehensive. Applications should include separate estimates for each of the three years, if funding levels are expected to be substantially different in subsequent years. (10 points)

Part II: The Review Process

Intergovernmental Review—This program is covered under Executive Order 12372, “Intergovernmental Review of Federal Programs,” and 45 CFR part 100, “Intergovernmental Review of Department of Health and Human Services Programs and Activities.” Under the Order, States may design their own processes for reviewing and commenting on proposed federal assistance under covered programs.

• All States and Territories except Alabama, Alaska, Arizona, Colorado, Connecticut, Hawaii, Idaho, Indiana, Kansas, Louisiana, Massachusetts, Minnesota, Montana, Nebraska, New Jersey, New York, Ohio, Oklahoma, Oregon, Pennsylvania, South Dakota, Tennessee, Vermont, Virginia, Washington, Wyoming, and Palau have elected to participate in the Executive Order process. Applicants from these twenty-seven jurisdictions need take no action regarding E.O. 12372. Applicants for projects to be administered by Federally-recognized Indian Tribes are also exempt from the requirements of E.O. 12372. Applicants should contact their Single-Points-of-Contact (SPOC) as soon as possible to alert them of the prospective applications and receive any necessary instructions. Applicants from participating jurisdictions must submit any required material to the SPOCs as soon as possible so that the program office can obtain and review SPOC comments as part of the award process. The applicant must submit all required materials, if any, to the SPOC and indicate the date of this submittal (the date of contact) on the Standard Form 424, item 16a.

Under 45 CFR 100.8(a)(2), a SPOC has 60 days from the application deadline to comment on proposed new or competing continuation awards.

SPOCs are encouraged to eliminate the submission of routine endorsements as official recommendations.

Additionally, SPOCs are requested to clearly differentiate between mere advisory comments and those official State process recommendations which may trigger the “accommodate or explain” rule.

When comments are submitted directly to ACF, they should be addressed to: Grants Management Officer, U.S. Department of Health and Human Services, Administration for Children and Families, Office of Refugee Resettlement, 370 L'Enfant Promenade SW., 4th floor, Washington DC 20447.

A list of the Single Points of Contact for each participating State and Territory can be found on the web at: http://www.whitehouse.gov/omb/index.html.

Initial ACF Screening—Each application submitted under this program announcement will undergo a pre-review to determine that (1) the application was received by the closing date of July 31, 2002 and submitted in accordance with the instructions in this announcement and (2) the applicant is eligible for funding.

Competitive Review and Evaluation Criteria—Applications which pass the initial ACF screening will be evaluated and rated by an independent review panel on the basis of evaluation criteria specified in Part I. The evaluation criteria were designed to assess the quality of a proposed project, and to determine the likelihood of its success. The evaluation criteria are closely related and are considered as a whole in judging the overall quality of an application. Points are awarded only to applications that are responsive to the evaluation criteria within the context of this program announcement.

Applications received for each Category will be scored and ranked only within the Category designated on the SF 424, e.g. in one of the three program areas.

Part III: The Application

In order to be considered for a grant under this program announcement, an application must be submitted on the forms supplied and in the manner prescribed by ACF. Selected elements of the ACF Uniform Project Description (UPD) relevant to this program announcement are attached as Appendix A.

Application Forms—Applicants requesting financial assistance under this announcement must file the Standard Form (SF) 424, Application for Federal Assistance; SF 424A, Budget Information—Non-construction Programs; SF 424B, Assurances—Non-Construction Programs. The forms may be reproduced for use in submitting applications. Application materials including forms and instructions are also available from the Contact named in the preamble of this announcement.

Application Submission and Deadlines—An application with an original signature and two clearly identified copies are required. Applicants must clearly indicate on the SF 424 the Category under which the application is submitted.

The closing date for receipt of applications is (4:30 p.m. Eastern Time Zone) July 31, 2002. Please note that all applications must be received in ORR (as opposed to postmarked) by the closing date. Mailed and hand-carried applications received after the 4:30 p.m. (Eastern Time Zone) deadline on the closing date will be classified as late.

Mailed applications shall be considered as meeting an announced deadline if they are either received on or before the deadline time and date at the: U.S. Department of Health and Human Services, Administration for Children and Families, Office of Grants Management, Division of Discretionary Grants, Attention: Grants Management Officer, 370 L'Enfant Promenade SW., 4th Floor, Washington, DC 20447. Applicants are responsible for mailing applications well in advance to ensure that applications are received on or before the deadline time and date.

Applications hand-carried by applicants, applicant couriers, overnight/express mail couriers, or by other representatives on behalf of the applicant shall be considered as meeting an announced deadline if they are received on or before the deadline date, between the hours of 8 a.m. and 4:30 p.m., EST, at the U.S. Department of Health and Human Services, Administration for Children and Families, Office of Grants Management, Division of Discretionary Grants, Attention: Grants Management Officer, 4h Floor, Aerospace Building, 901 D Street, SW., Washington, DC 20447 between Monday and Friday (excluding federal holidays). The address must appear on the envelope/package containing the application with the note “Attention: Grants Management Officer.” (Applicants are cautioned that express/overnight mail services do not always deliver as agreed.)

ACF cannot accommodate transmission of applications by fax or through other electronic media. Therefore, applications transmitted to ACF electronically will not be accepted regardless of date or time of submission and time of receipt.

The federal government has experienced periodic delays in mail delivery through the U.S. Postal Service since fall 2001. In some instances, mail has been delayed up to or over four months. To ensure that ACF receives your application by the (4:30 p.m. Eastern Time Zone) July 31, 2002 deadline, you may wish to send your application via an express mailing service. Also, please send an electronic notification that you have sent an application to Jay Womack at jwomack@acf.hhs.gov and Neil Kromash at nkromash@acf.hhs.gov.

Late applications: Applications that do not meet the criteria above are considered late applications. ACF shall notify each late applicant that its application will not be considered in the current competition.

Extension of deadlines: ACF may extend application deadlines when circumstances such as acts of God (e.g. floods, hurricanes, etc.) occur, or when there are widespread disruptions of mail service. Determinations to extend or waive deadline requirements rest with the Chief Grants Management Officer.

For Further Information on Application Deadlines Contact: Grants Management Officer, Administration for Children and Families, Office of Grants Management, Division of Discretionary Grants, 370 L'Enfant Promenade SW., 4th Floor, Washington, DC 20447, Telephone: (202) 401-4577.

Certifications, Assurances, And Disclosure Required For Non-Construction Programs—Applicants must sign and return the disclosure form, if applicable, with their applications. Applicants requesting financial assistance for non-construction projects must file the Standard Form 424B, “Assurances: Non-Construction Programs.” Applicants must sign and return the Standard Form 424B with their applications.

Applicants must provide a signed certification regarding lobbying with their applications, when applying for an award in excess of $100,000. Applicants who have used non-federal funds for lobbying activities in connection with receiving assistance under this announcement shall complete a disclosure form to report lobbying.

Applicants must make the appropriate certification of their compliance with the Drug Free Workplace Act of 1988. By signing and submitting the application, the applicant is providing the certification and need not mail back the certification with the application.

Applicants must make the appropriate certification that they are not presently debarred, suspended or otherwise ineligible for an award. By signing and submitting the application, the applicant is providing the certification and need not mail back the certification with the applications.

General Instructions for Preparing a FulL Project Description

The project description provides a major means by which an application is evaluated and ranked to compete with other applications for available assistance. The project description should be concise and complete and should address the activity for which federal funds are being requested. Supporting documents should be included where they can present information clearly and succinctly. Applicants are encouraged to provide information on their organizational structure, staff, related experience, and other information considered relevant. Awarding offices use this and other information to determine whether the applicant has the capability and resources necessary to carry out the proposed project. It is important, therefore, that this information be included in the application. However, in the narrative the applicant must distinguish between resources directly related to the proposed project from those that will not be used in support of the specific project for which funds are requested. Please refer to the UPD sections in the appendix.

Length of Applications—Each application narrative should not exceed 20 pages in a 12-pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages per category should be considered as a maximum, and not necessarily a goal. Application forms are not to be counted in the page limit.

Please do not include books or videotapes as they are not easily reproduced and are, therefore, inaccessible to the reviewers.

Part IV: Post-Award

Applicable Regulations—Applicable DHHS regulations can be found in 45 CFR part 74 or 92.

Treatment of Program Income—Program income from activities funded under this program may be retained by the recipient and added to the funds committed to the project, and used to further program objectives.

Reporting Requirements—Grantees are required to file the Financial Status Report (SF-269) semi-annually and the Program Performance Reports quarterly, along with the Schedule C of the ORR Quarterly Performance Report. Category Three grantees should note the additional requirements for the final report noted under Category Three Grantee Responsibilities above.

Funds awarded must be accounted for, and reported under, the distinct grant number ascribed. Although ORR does not expect the proposed projects to include evaluation activities, it does expect grantees to maintain adequate records to track and report on project outcomes and expenditures. The official receipt point for all reports and correspondence is the Grants Management Officer, Administration for Children and Families/Office of Grants Management, Division of Discretionary Grants, 370 L'Enfant Promenade SW., 4th Floor, Washington, DC 20447, Telephone: (202) 401-4577. An original and one copy of each report shall be submitted within 30 days of the end of each reporting period directly to the Office of Grants Management.

A Final Financial and Program Report shall be due 90 days after the project expiration date or termination of federal budget support.

Dated: May 13, 2002.
Nguyen Van Hanh,
Director, Office of Refugee Resettlement.

Appendix A—Uniform Project Description OMB No. 0970-0139

The project description is approved under OMB control number 0970-0139 which expires 12/31/03.

Part I: The Project Description Overview

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

Part II: General Instructions for Preparing a Full Project Description

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Third-Party Agreements

Include written agreements between grantees and subgrantees or subcontractors or other cooperating entities. These agreements must detail scope of work to be performed, work schedules, remuneration, and other terms and conditions that structure or define the relationship.

Letters of Support

Provide statements from community, public and commercial leaders that support the project proposed for funding. All submissions should be included in the application OR by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: First column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of nonexpendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information which supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) currently set at $100,000. Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application that contain this information.

Nonfederal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

[Self-explanatory]

[FR Doc. 02-13089 Filed 5-23-02; 8:45 am]

BILLING CODE 4184-01-P